Proclamation 10259 of September 16, 2021

National POW/MIA Recognition Day, 2021

By the President of the United States of America

A Proclamation

When service members take an oath to defend the Constitution of the United States, they do so knowing that they may be called upon to make great sacrifices to ensure and sustain our shared values. These patriots accept those risks and rush to fulfill the mission, no matter how harsh or dangerous the conditions. They embody the best of the American spirit. For the families and friends who wait at home, anxious for news of their loved ones, these sacrifices can cause great pain. For the families of the more than 81,600 service members who remain missing in action—the pain and grief is compounded by a lack of closure, and the hope that their sons and daughters, sisters and brothers, parents, and grandparents will one day return home.

On National POW/MIA Recognition Day, we remember the debt we owe to them and to their families. We pay tribute to our former prisoners of war and recommit to the difficult but essential task of seeking out answers for the families of those still missing. We will always remember and honor our Nation's prisoners of war and those still missing in action, and keep faith with our promise as a Nation to bring all of our heroes home.

Every day, the iconic black and white flag—a powerful symbol in recognition of the heroism and sacrifice of American POWs and MIAs—is flown above the White House. It is a mark of reverence and of solidarity with all those who await answers. Each day, this flag flies over memorials and cemeteries, on military installations, at local post offices, and on the front lawns of homes across the Nation. This flag remains a symbol of America's commitment to honor the sacrifices of all those who serve.

My Administration is committed to recovering and identifying Americans missing from prior conflicts. Our efforts are global, and we are thankful for the continued cooperation of all partner nations who advance these humanitarian efforts on behalf of American families. Loss and grief are hard enough without the added and too often prolonged pain of uncertainty. But this much is certain: the United States will never abandon the search for our service members missing and unaccounted for in overseas wars. They will never be forgotten.

During National POW/MIA Recognition Day, our Nation conveys eternal gratitude to those who endured enemy captivity and those who made the supreme sacrifice and have yet to return home. We will stand with these heroes, who gave their all to protect and preserve our freedoms, and their families, who have kept the faith and longingly pursued answers across these many decades.

NOW, THEREFORE, I, JOSEPH R. BIDEN JR., President of the United States of America, by virtue of the authority vested in me by the Constitution and the laws of the United States, do hereby proclaim September 17, 2021, as National POW/MIA Recognition Day. Along with my fellow Americans, I salute our former POWs who overcame unspeakable indignities to return home with honor. For those who made the ultimate sacrifice and never came home, America will work tirelessly to provide their families and our Nation the fullest possible measure of accounting. I urge all Americans to observe this day of honor and remembrance with appropriate ceremonies and activities.

IN WITNESS WHEREOF, I have hereunto set my hand this sixteenth day of September, in the year of our Lord two thousand twenty-one, and of the Independence of the United States of America the two hundred and forty-sixth.

[FR Doc. 2021-20507

Filed 9-20-21; 8:45 am]

Billing code 3295-F1-P